DEPARTMENT OF HEALTH AND HUMAN SERVICES

National Institutes of Health

National Library of Medicine; Amended Notice of Meeting

Notice is hereby given of a change in the meeting of the Biomedical Library, Informatics and Data Science Review Committee, November 2-3, 2023, which was published in the Federal Register on August 2, 2023, 88 FR 147, Page 50884.

This notice is being amended to change the meeting times to 9:30 a.m. to 5:30 p.m. on November 2nd and 9:30 a.m. to 3:30 p.m. on November 3rd. The meeting is closed to the public.

Dated: August 31, 2023.
Miguelina Perez,
Program Analyst, Office of Federal Advisory Committee Policy.

[FR Doc. 2023-19255 Filed 9-6-23; 8:45 am]

BILLING CODE 4140-01-P